DEPARTMENT OF THE INTERIOR

Fish and Wildlife Service

[FWS-R8-R-2008-N0099; 80230-1265-0000-S3]

Sacramento, Delevan, Colusa, and Sutter National Wildlife Refuges

AGENCY: Fish and Wildlife Service, Interior.

ACTION: Notice of availability; request for comments: draft comprehensive conservation plan and environmental assessment.

SUMMARY: We, the U.S. Fish and Wildlife Service (Service), announce the availability of a Draft Comprehensive Conservation Plan and Environmental Assessment (Draft CCP/EA) for Sacramento, Delevan, Colusa, and Sutter National Wildlife Refuges (Refuges) for public review and comment. The Draft CCP/EA, prepared pursuant to the National Wildlife Refuge System Improvement Act of 1997, and in accordance with the National Environmental Policy Act of 1969, describes how the Service will manage the Refuges for the next 15 years. Draft compatibility determinations for several existing and proposed public uses are also available for review and public comment with the Draft CCP/EA.

DATES: Written comments must be received at the address below on or before September 12, 2008.

ADDRESSES: For more information on obtaining documents and submitting comments, see “Review and Comment” under SUPPLEMENTARY INFORMATION.

FOR MORE INFORMATION CONTACT: Kevin Foerster, Project Leader at Sacramento National Wildlife Refuge Complex or Jackie Ferrier, Refuge Planner at Sacramento National Wildlife Refuge Complex address under “Review and Comment” or at (530) 934-2801 (telephone).

SUPPLEMENTARY INFORMATION: The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation.

Background

Sacramento, Delevan, Colusa, and Sutter National Wildlife Refuges are located in the Sacramento Valley of California approximately ninety miles north of the city of Sacramento. The Refuges manage and protect wintering habitat for migratory birds and endangered and threatened species. The Refuges contain approximately 24,000 acres of critically important habitats for a great diversity of wildlife, particularly migratory birds. Over forty percent of the Pacific Flyway waterfowl winters in the Sacramento Valley. The vast majority of wetlands in the Sacramento Valley have been converted to agricultural, industrial, and urban development. Remaining wetlands are intensively managed to optimize wildlife benefits.

Alternatives

The Draft EA/CCP evaluates the environmental effects of four alternatives for managing the Sacramento, Delevan, Colusa, and Sutter National Wildlife Refuges for the next 15 years. We propose to implement Alternative C, as described in the EA. Alternative C best achieves the Refuges' purposes, vision, and goals; contributes to the Refuge System mission; addresses the significant issues and relevant mandates; and is consistent with principles of sound fish and wildlife management. This alternative is described in more detail in the CCP.

There are many features of proposed Refuge management that are common to all three alternatives. Features common to all alternatives include ongoing coordination with mosquito control, invasive species management, vernal pool management, habitat management and restoration, implementation of a hunt program, and providing wildlife observation, photography, environmental education, and interpretation opportunities. There are also many features of each alternative that are distinct.

Alternative A, the no action alternative, assumes no change from current management programs and is considered the baseline to compare other alternatives against. Under Alternative A, the primary management focus of the Refuges would continue to be providing habitat for migrating, wintering, and nesting migratory and resident birds with an emphasis on waterbirds and endangered species by restoring and maintaining wetland, vernal pool, alkali meadow, riparian, and grassland habitats. We would continue to offer wildlife-dependent recreation opportunities on the Refuges including wildlife observation, photography, environmental education, interpretative programs, and hunting, with emphasis on youth and disabled hunters.

Under Alternative B, we would emphasize management for biological resources on the Refuges. Biological opportunities would be maximized to allow optimum wildlife and habitat management throughout the majority of the Refuges. We would continue the current focus of the Refuges to provide wintering habitat for migratory birds and management to benefit endangered species. Habitat and invasive species management programs would be expanded. We would reduce environmental education, interpretation, wildlife observation, wildlife photography, and hunting programs.

Under Alternative C, we would seek to achieve an optimal balance of biological resource objectives and visitor services opportunities on the Refuges. Habitat management and associated biological resource monitoring would be improved. Visitor service opportunities would focus on quality wildlife-dependant recreation distributed throughout the Refuges. In addition, we would expand environmental education, interpretation, wildlife observation, photography, and hunting programs beyond Alternative A.

Under Alternative D, we would emphasize management for visitor services on the Refuges. Wildlife-dependant recreational opportunities would be expanded. Opportunities for the six priority public uses: hunting, fishing, wildlife observation, photography, environmental education, and interpretation, would be expanded beyond Alternatives A, B, and C.

Review and Comment

Copies of the Draft CCP/EA may be obtained by writing to the U.S. Fish and Wildlife Service, Attn: Jackie Ferrier, Sacramento National Wildlife Refuge Complex, 752 County Road 99W, Willows, CA 95988. Copies of the Draft CCP/EA may also be viewed at this address. The Draft CCP/EA will also be available for viewing and downloading online at http://sacramentovalleyrefuges.fws.gov. Printed documents will also be available for review at the following libraries: Bayliss Library, 7830 County Road 39, Glenn, CA 95943; Butte County Library, 1108 Sherman Avenue, Chico, CA, 95926; Butte County Public Library, 1820 Mitchell Avenue, Oroville, CA, 95966, Colusa County Library, 738 Market Street, Colusa, CA, 95932; Colusa County Library, 232 Prince Street, Princeton, CA, 95970; Corning Library, 740 3rd Street, Corning, CA, 96021; Orland City Library, 333 Mill Street, Orland, CA 95963; Sutter County Library, 750 Forbes Avenue, Yuba City, CA, 95991; and Willows Public Library, 201 North Lassen Street, Willows, CA, 95988.

Comments on the Draft CCP/EA should be addressed to: Jackie Ferrier, Refuge Planner, Sacramento National Wildlife Refuge Complex, 752 County Road 99W, Willows, CA 95988. Comments may also be faxed to (530) 934-7814 or submitted via electronic mail to jackie_ferrier@fws.gov.

After the review and comment period ends for this Draft CCP/EA, comments will be analyzed by the Service and addressed in the Final CCP. Before including your address, phone number, e-mail address, or other personal identifying information in your comment, you should be aware that your entire comment—including your personal identifying information—may be made publicly available at any time. While you can ask us in your comment to withhold your personal identifying information from public review, we cannot guarantee that we will be able to do so.

Dated: July 15, 2008.
Frances E. Mann
Acting Regional Director, California and Nevada Region, Sacramento, California.

[FR Doc. E8-16584 Filed 7-18-08; 8:45 am]

BILLING CODE 4310-55-P